ENVIRONMENTAL PROTECTION AGENCY

[EPA-HQ-OPP-2007-0946; FRL-8154-9]

Pesticides; Guidance for Pesticide Registrants on Labeling Revisions Required by the Final Rule “Pesticide Management and Disposal; Standards for Pesticide Containers and Containment”; Pesticide Registration Notice 2007-4

AGENCY: Environmental Protection Agency (EPA).

ACTION: Notice of Availability.

SUMMARY: The Agency is announcing the availability of a Pesticide Registration Notice titled “Labeling Revisions Required by the Final Rule ‘Pesticide Management and Disposal; Standards for Pesticide Containers and Containment.' ” PR Notices are issued by the Office of Pesticide Programs (OPP) to inform pesticide registrants and other interested persons about important policies, procedures, and registration related decisions and serve to provide guidance to pesticide registrants and OPP personnel. This particular PR Notice provides guidance to registrants on how to change their labels to comply with the new labeling requirements established by the container and containment rule. By August 17, 2009, all pesticide products distributed or sold by a registrant must bear labels that comply with the new requirements.

FOR FURTHER INFORMATION CONTACT: Kimberly Nesci, Field and External Affairs Division (FEAD), Office of Pesticide Programs, Environmental Protection Agency, 1200 Pennsylvania Ave., NW., Washington, DC 20460-0001; telephone number: (703) 308-8059; fax number: (703) 308-2962; e-mail address: nesci.kimberly@epa.gov or Nancy Fitz, FEAD, Office of Pesticide Programs, Environmental Protection Agency, 1200 Pennsylvania Ave., NW., Washington, DC 20460-0001; telephone number: (703) 305-7385; fax number: (703) 308-2962; e-mail address: fitz.nancy@epa.gov.

SUPPLEMENTARY INFORMATION:

I. General Information

A. Does this Action Apply to Me?

This action is directed to the public in general. You may be affected by this action if you are a pesticide registrant. This action may be of particular interest to those persons who are required to register pesticides. Since other entities may also be interested, the Agency has not attempted to describe all the specific entities that may be interested in this action.

If you have any questions regarding the applicability of this action to a particular entity, consult the person listed under FOR FURTHER INFORMATION CONTACT.

B. How Can I Get Copies of this Document and Other Related Information?

1. Docket. EPA has established a docket for this action under docket identification (ID) number EPA-HQ-OPP-2007-0946. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Guidance Does this PR Notice Provide?

On August 16, 2006, the Agency published a Final Rule titled “Pesticide Management and Disposal; Standards for Pesticide Containers and Containment” (71 FR 47330) (FRL 8076-2) that established standards for pesticide containers and containment structures. Among other things, the final rule established requirements for label language to include the following: A statement identifying the container as refillable or nonrefillable; instructions to facilitate the removal of pesticides from containers prior to disposal or recycling; and, for nonrefillable containers, instructions for managing the container. This notice provides instructions to pesticide registrants on revising their product labels in order to implement the new requirements. Most registrants may be able to make the necessary label amendments by notification; however, in some cases an application for amendment and EPA approval may be required. By August 17, 2009, all pesticide products distributed or sold by a registrant must have labels that comply with the new requirements (40 CFR 156.159).The Agency is releasing this PR Notice as a final document and not for comment because it implements final regulations currently in place. The container and containment rule was released for public comment before the final rule was published.

III. Do PR Notices Contain Binding Requirements?

The PR Notice discussed in this document is intended to provide guidance to EPA personnel and decision makers and to pesticide registrants. While the requirements in the statutes and Agency regulations are binding on EPA and the applicants, this PR Notice is not binding on pesticide registrants.

List of Subjects

Environmental protection, Pesticides and pests, Pesticide labels, Pesticide labeling, Pesticide containers, Pesticide containment.

Dated: October 29, 2007.
Debra Edwards,
Director, Office of Pesticide Programs.

[FR Doc. E7-21860 Filed 11-6-07; 8:45 am]

BILLING CODE 6560-50-S